DEPARTMENT OF COMMERCE

International Trade Administration

Initiation of Antidumping and Countervailing Duty Administrative Reviews and Requests for Revocation in Part

AGENCY: Import Administration, International Trade Administration, Department of Commerce.

SUMMARY: The Department of Commerce has received requests to conduct administrative reviews of various antidumping and countervailing duty orders and findings with May anniversary dates. In accordance with the Department's regulations, we are initiating those administrative reviews. The Department of Commerce also received requests to revoke two antidumping duty orders in part.

EFFECTIVE DATE: July 1, 2008.

FOR FURTHER INFORMATION CONTACT: Ronald M. Trentham, Office of AD/CVD Operations, Customs Unit, Import Administration, International Trade Administration, U.S. Department of Commerce, 14th Street and Constitution Avenue, N.W., Washington, D.C. 20230, telephone: (202) 482-6320.

SUPPLEMENTARY INFORMATION:

Background

The Department has received timely requests, in accordance with 19 CFR 351.213(b)(2002), for administrative reviews of various antidumping and countervailing duty orders and findings with May anniversary dates. The Department also received timely requests to revoke in part the antidumping duty orders on ball bearings and parts thereof from Germany with respect to one exporter and ball bearings and parts thereof from Japan with respect to one exporter.

Respondent Selection

In the event the Department limits the number of respondents for individual examination for administrative reviews, the Department intends to select respondents based on U.S. Customs and Border Protection (CBP) data for U.S. imports during the period of review (POR). We intend to release the CBP data under Administrative Protective Order (APO) to all parties having an APO within five days of publication of this initiation notice and to make our decision regarding respondent selection within 20 days of publication of this Federal Register notice. The Department invites comments regarding the CBP data and respondent selection within 10 calendar days of publication of this Federal Register notice.

INITIATION OF REVIEWS:

In accordance with section 19 CFR 351.221(c)(1)(i), we are initiating administrative reviews of the following antidumping and countervailing duty orders and findings. We intend to issue the final results of these reviews not later than May 31, 2009.

Antidumping Duty Proceedings | Period to be Reviewed
BELGIUM: Stainless Steel Plate in Coils
A-423-808 | 5/1/2007 - 4/30/2008
Ugine & ALZ Belgium (U&A Belgium)
FRANCE: Ball Bearings and Parts Thereof
A-427-801 | 5/1/2007 - 4/30/2008
ADR S.A.
Edwards Ltd., and Edwards High Vacuum Int' l Ltd.
SKF France S.A. and SKF Aerospace France S.A.S.
GERMANY: Ball Bearings and Parts Thereof
A-428-801 | 5/1/2007 - 4/30/2008
Dolmar GmbH
Edwards Ltd., and Edwards High Vacuum Int'l Ltd.
Gebrueder Reinfurt GmbH & Co., KG (GRW)
myonic GmbH
RWK Frankenjura Industie
SKF GmbH
SNR Walzlager GmbH
The Schaeffler Group including Schaeffler KG
ITALY: Ball Bearings and Parts Thereof
A-475-801 | 5/1/2007 - 4/30/2008
Edwards, Ltd., and Edwards High Vacuum Int'l Ltd.
SKF Industrie S.p.A. and Somecat S.p.A.
The Schaeffler Group including Schaeffler Italia S.p.A.
JAPAN: Ball Bearings and Parts Thereof
A-588-804 | 5/1/2007 - 4/30/2008
Aisin Seiki Company Ltd.
Asahi Seiko Co., Ltd. (Asahi)
Canon, Inc.
Edwards, Ltd., and Edwards High Vacuum Int'l Ltd.
Japanese Aero Engines Corporation (JAEC)
JTEKT Corporation (JKEKT)
Keihin Corporation (Keihin JP)
Makino Milling Machine Company Ltd. (Japan)
Makita Corporation
Mazda Motor Corporation
Mitsubishi Heavy Industries, Ltd.
Nachi-Fujikoshi Corporation
Nippon Pillow Block Company Limited
Nissan Motor Company, Ltd.
NTN Corporation
NSK, Ltd.
Sapporo Precision, Inc.
Univance Inc.
Yamazaki Mazak Trading Corporation
SOUTH KOREA: Polyester Staple Fiber
A-580-839 | 5/1/2007 - 4/30/2008
Huvis Corporation
TAIWAN: Certain Circular Welded Carbon Steel Pipe and Tubes
A-583-008 | 5/1/2007 - 4/30/2008
Yieh Hsing
TAIWAN: Polyester Staple Fiber
A-583-833 | 5/1/2007 - 4/30/2008
Far Eastern Textiles Ltd.
Nan Ya Plastics Corporation
THE PEOPLE'S REPUBLIC OF CHINA: Pure Magnesium¹
A-570-832 | 5/1/2007 4/30/2008
Tianjin Magnesium International Co. (TMI)
TURKEY: Welded Carbon Steel Pipe and Tube
A-489-501 | 5/1/2007 - 4/30/2008
Borusan Group (and affiliates, Borusan Mannesmann
Boru Sanayi ve Ticaret A.S. and Borusan Istikbal Ticaret T.A.S.)
Toscelik Profil ve Sac Endustrisi A.S.
UNITED KINGDOM: Ball Bearings and Parts Thereof
A-412-801 | 5/1/2007 - 4/30/2008
Edwards, Ltd., and Edwards High Vacuum Int'l Ltd.
NSK Bearings Europe Ltd.
Rolls-Royce PLC
The Schaeffler Group, including
the Barden Corporation (UK) Ltd. and
Schaeffler (UK) Ltd.
SKF (UK) Limited including SNFA Operations,
The Stonehouse Operations, and SKF Aeorspace
Countervailing Duty Proceeding | Period to be Reviewed
BELGIUM: Stainless Steel Plate in Coils
C-423-809 | 1/1/2007 - 12/31/2007
Ugine & ALZ Belgium (U&A Belgium)
Suspension Agreements
None.
¹ If one of the above-named companies does not qualify for a separate rate, all other exporters of Pure Magnesium from the People's Republic of China who have not qualified for a separate rate are deemed to be covered by this review as part of the single PRC entity of which the named exporters are a part.

During any administrative review covering all or part of a period falling between the first and second or third and fourth anniversary of the publication of an antidumping duty order under section 351.211 or a determination under section 351.218(f)(4) to continue an order or suspended investigation (after sunset review), the Secretary will determine, if requested by a domestic interested party within 30 days of the date of publication of the notice of initiation of the review and consistent with FAG Italia v.United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under APO in accordance with 19 CFR 351.305. On January 22, 2008, the Department published Antidumping and Countervailing Duty Proceedings: Documents Submission Procedures; APO Procedures (73 FR 3634). Those procedures apply to administrative reviews included in this notice of initiation. Parties wishing to participate in any of these administrative reviews should ensure that they meet the requirements of these procedures (e.g., the filing of separate letters of appearance as discussed at 19 CFR 351.103(d)).

These initiations and this notice are in accordance with section 751(a) of the Tariff Act of 1930, as amended (19 U.S.C. 1675(a)), and 19 CFR 351.221(c)(1)(i).

Dated: June 19, 2008.
Stephen J. Claeys,
Deputy Assistant Secretary for Import Administration.

[FR Doc. E8-14909 Filed 6-30-04; 8:45 am]

BILLING CODE 3510-DS-S